DEPARTMENT OF COMMERCE

International Trade Administration

[A-570-016]

Antidumping Duty Investigation of Certain Passenger Vehicle and Light Truck Tires From the People's Republic of China: Amended Affirmative Preliminary Determination

AGENCY: Enforcement and Compliance, International Trade Administration, Department of Commerce.

SUMMARY: The Department of Commerce (Department) is amending the preliminarily determination of the antidumping duty (AD) investigation of certain passenger vehicle and light truck tires (passenger tires) from the People's Republic of China (PRC) to correct significant ministerial errors.

DATES: Effective Date: March 26, 2015.

FOR FURTHER INFORMATION CONTACT: Toni Page, Jun Jack Zhao, or Lingjun Wang, AD/CVD Operations, Office VII, Enforcement and Compliance, International Trade Administration, U.S. Department of Commerce, 14th Street and Constitution Avenue NW., Washington, DC 20230; telephone: (202) 482-1398, (202) 482-1396, or (202) 482-2316, respectively.

SUPPLEMENTARY INFORMATION:

Background

On January 27, 2015, the Department published its affirmative preliminary determination that passenger tires from the PRC are being, or are likely to be, sold in the United States at less than fair value, as provided by section 733 of the Tariff Act of 1930, as amended (the Act).¹ The Department disclosed the calculations performed on January 26, 2015, and set a February 2, 2015 deadline for submitting comments concerning ministerial errors.

¹ See Certain Passenger Vehicle and Light Truck Tires from the People's Republic of China: Preliminary Determination of Sales at Less Than Fair Value; Preliminary Affirmative Determination of Critical Circumstances; In Part and Postponement of Final Determination, 80 FR 4250 (January 27, 2015) (Preliminary Determination).

The Sailun Group ² and GITI ³ each timely filed comments alleging significant ministerial errors.⁴ In addition, Anchi, Wanli, Federal, Changfeng, Fullrun, Fuyingxiang, Qingda, Doublestar and Doublestar-Dongfeng, and Beijing Capital each timely filed comments regarding the Department's preliminary separate rate determinations.⁵ Jinhaoyang requested the Department to accept its supplemental documentation for the Separate Rate Application ⁶ which was opposed by the Petitioner.⁷ Further, GITI, Doublestar and Tyrechamp, and CIC timely filed requests for correcting misspelled names.⁸ Petitioner filed rebuttal comments and ministerial error comments on February 10, 2015.⁹ The Sailun Group, in-turn, requested that the Department reject Petitioner's rebuttal comments.¹⁰

² Sailun Group Co. and its affiliates, Sailun Tire International Corp., Shandong Jinyu Industrial Co., Ltd., Jinyu International Holding Co., Limited, Seatex International Inc., Dynamic Tire Corp., Husky Tire Corp., Seatex PTE. Ltd. (collectively, the Sailun Group).

³ Giti Tire Global Trading Pte. Ltd., and its affiliates, Giti Tire Global Trading Pte. Ltd., Giti Tire (USA) Ltd., Giti Tire (Anhui) Company Ltd., Giti Tire (Fujian) Company Ltd., Giti Tire (Hualin) Company Ltd. (collectively, GITI).

⁴ See Sailun Group's and GITI's February 2, 2015 letters.

⁵ See Shandong Anchi Tyres Co., Ltd. (Anchi)'s January 28, 2015 letter, Guangzhou Wanli Tire Trading Co., Ltd. (Wanli)'s January 28, 2015 letter, Highpoint Trading, Ltd. and Federal Tire (Jiangxi), Ltd. (collectively, Federal)'s January 28, 2015 letter, Shandong Changfeng Tyres Co., Ltd. (Changfeng)'s January 30, 2015 letter, Qingdao Fullrun Tyre Corp. Ltd. (Fullrun)'s January 30, 2015 letter, Qingdao Fuyingxiang Imp. & Exp. Co., Ltd. (Fuyingxiang)'s January 31, 2015 letter, Zhejiang Qingda Rubber Co., Ltd. (Qingda)'s January 31, 2015 letter, Qingdao Doublestar Tire Industrial Co., Ltd. (Doublestar) and Doublestar-Dongfeng Tyre Co., Ltd. (Doublestar-Dongfeng)'s January 31, 2015 letter, and Beijing Capital Tire Co., Ltd. (Beijing Capital)'s February 4, 2015 letter.

⁶ See Qingdao Jinhaoyang International Co, Ltd. (Jinhaoyang)'s February 4, 2015 letter.

⁷ See Petitioner's February 10, 2015 letter.

⁸ See GITI's January 26, 2015 letter, Qingdao Doublestar Tire Industrial Co., Ltd. (Doublestar)'s and Tyrechamp Group Co., Limited (Tyrechamp)'s January 23, 2015 letter, and Crown International Corporation (CIC)'s January 26, 2015 letter.

⁹ Petitioner is United Steel, Paper, and Forestry, Rubber, Manufacturing, Energy, Allied Industrial and Service Workers International Union, AFL-CIO, CLC. See Petitioner's February 10, 2015 comments.

¹⁰ See Sailun Group's February 11, 2015 letter.

Scope of the Investigation

For a full description of the scope of this investigation, see “Scope of Investigation” at Appendix I of the Preliminary Determination.

Analysis of Significant Ministerial Error Allegations

The Department will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” Further, a significant ministerial error is defined in 19 CFR 351.224(g) as a ministerial error, the correction of which, singly or in combination with other errors, would result in: (1) A change of at least five absolute percentage points in, but not less than 25 percent of, the weighted-average dumping margin calculated in the original (erroneous) preliminary determination; or (2) a difference between a weighted-average dumping margin of zero (or de minimis) and a weighted-average dumping margin of greater than de minimis, or vice versa.

In accordance with 19 CFR 351.224(e) and (g)(1), the Department is amending the Preliminary Determination to reflect the corrections of a significant ministerial error in Sailun Group's margin calculation. However, the Department is not amending GITI's margin calculation because GITI's ministerial errors are not significant in accordance with 19 CFR 351.224(g)(1). As a result of amending Sailun Group's margin, the Department also revised the margin for separate rate companies.¹¹ Further, the Department has corrected names for GITI, Doublestar and Tyrechamp, and CIC.

¹¹ See Memorandum to The File, “Certain Passenger Vehicle and Light Truck Tires from the People's Republic of China: Amended Separate Rate Calculation Memorandum,” dated concurrently with this notice, for the calculation performed.

Ministerial Error Allegations

For a complete analysis of the ministerial error allegations, see the Ministerial Error Memorandum.¹²

¹² See Memorandum to Paul Piquado, Assistant Secretary for Enforcement and Compliance, “Ministerial Error Memorandum for the Affirmative Preliminary Determination of the Antidumping Duty Investigation of Certain Passenger Vehicle and Light Truck Tires From the People's Republic of China,” dated concurrently with this notice, for the analysis performed (Ministerial Error Memorandum). This memorandum is on file electronically via Enforcement and Compliance's Antidumping and Countervailing Duty Centralized Electronic Service System (ACCESS). ACCESS is available to registered users at http://access.trade.gov, and is available to all parties in the Department's Central Records Unit in Room 7046 of the Department of Commerce building.

Correction

In the Federal Register notice for the Preliminary Determination, we incorrectly identified the following exporter-producer combinations: (1) Exporter and producer Giti Radial Tire (Anhui) Company Ltd. was mis-identified as “Giti Tire (Anhui) Company Ltd.”; (2) two of exporter Crown International Corporation's producers, Shandong Yongsheng Rubber Group Co., Ltd. and Qingdao Doublestar Tire Industrial Co., Ltd, were incorrectly listed as “Shandong Yonshong Rubber Group Co. Ltd.” and “Qingdao Doublestar Tire Industrial Co., Ltd”; and 3) exporter Tyrechamp Group Co., Limited and one of its producers, Qingdao Doublestar Tire Industrial Co., Ltd., were listed as “Tyrechamp Group Co., Ltd.” and “Qingdao Doublestar Tyre Industrial Co., Ltd.” We are correcting these exporter-producer combinations, as listed below, and will revise the cash deposit instructions that were issued to U.S. Customs and Border Protection for the preliminary determination accordingly.

Amended Preliminary Determination

We corrected the preliminary dumping margin for the Sailun Group. Consequently, we amended the preliminary separate rate for the exporter-producer combinations listed below. Further, we corrected companies' names as requested.

Exporter(s) | Producer(s) | Weighted-average dumping margin (percent)
Giti Tire Global Trading Pte. Ltd., Giti Tire (USA) Ltd., Giti Radial Tire (Anhui) Company Ltd., Giti Tire (Fujian) Company Ltd., Giti Tire (Hualin) Company Ltd., (Collectively, GITI) | Giti Radial Tire (Anhui) Company Ltd., Giti Tire (Fujian) Company Ltd., Giti Tire (Hualin) Company Ltd | 19.17
Sailun Group Co., Ltd., Sailun Tire International Corp., Shandong Jinyu Industrial Co., Ltd., Jinyu International Holding Co., Limited, Seatex International Inc., Dynamic Tire Corp., Husky Tire Corp., Seatex PTE. Ltd., (Collectively, Sailun Group) | Sailun Group Co., Ltd., Shandong Jinyu Industrial Co., Ltd | 18.58
Cooper Tire & Rubber Company | Cooper Chengshan (Shandong) Tire Co., Ltd., Cooper (Kunshan) Tire Co., Ltd | 18.99
Cooper Chengshan (Shandong) Tire Co., Ltd | Cooper Chengshan (Shandong) Tire Co., Ltd | 18.99
Cooper (Kunshan) Tire Co., Ltd | Cooper (Kunshan) Tire Co., Ltd | 18.99
Best Choice International Trade Co., Limited | Qingdao Sentury Tire Co., Ltd., Shandong Haohua Tire Co., Ltd., Beijing Capital Tire Co., Ltd | 18.99
Bridgestone (Wuxi) Tire Co., Ltd | Bridgestone (Wuxi) Tire Co., Ltd | 18.99
Bridgestone Corporation | Bridgestone (Wuxi) Tire Co., Ltd | 18.99
Cheng Shin Tire & Rubber (China) Co., Ltd | Cheng Shin Tire & Rubber (China) Co., Ltd., Cheng Shin Tire & Rubber (Chongqing) Co., Ltd | 18.99
Crown International Corporation | Shandong Guofeng Rubber Plastics Co., Ltd., Shandong Haohua Tire Co., Ltd., Shandong Jinyu Industrial Co., Ltd., Doublestar-Dongfeng Tyre Co., Ltd., Shandong Yongsheng Rubber Group Co., Ltd., Shengtai Group Co., Ltd., Qingdao Doublestar Tire Industrial Co., Ltd., Shandong Yongtai Chemical Co., Ltd | 18.99
Goodyear Dalian Tire Company Limited | Goodyear Dalian Tire Company Limited | 18.99
Guangzhou Pearl River Rubber Tyre Ltd | Guangzhou Pearl River Rubber Tyre Ltd | 18.99
Hankook Tire China Co., Ltd | Hankook Tire China Co., Ltd | 18.99
Hebei Tianrui Rubber Co., Ltd | Hebei Tianrui Rubber Co., Ltd | 18.99
Hong Kong Tiancheng Investment & Trading Co., Limited | Shandong Linglong Tyre Co., Ltd | 18.99
Hong Kong Tri-Ace Tire Co., Limited | Shandong Yongtai Chemical Co., Ltd., Doublestar-Dongfeng Tyre Co., Ltd | 18.99
Hwa Fong Rubber (Hong Kong) Ltd | Hwa Fong Rubber (Suzhou) Co., Ltd | 18.99
Jiangsu Hankook Tire Co., Ltd | Jiangsu Hankook Tire Co., Ltd | 18.99
Kenda Rubber (China) Co., Ltd | Kenda Rubber (China) Co., Ltd | 18.99
Kumho Tire Co., Inc | Kumho Tire (Tianjin) Co., Inc., Nanjing Kumho Tire Co., Ltd., Kumho Tire (Changchun) Co., Inc | 18.99
Liaoning Permanent Tyre Co., Ltd | Liaoning Permanent Tyre Co., Ltd | 18.99
Longkou Xinglong Tyre Co., Ltd | Longkou Xinglong Tyre Co., Ltd | 18.99
Mayrun Tyre (Hong Kong) Limited | South China Tire & Rubber Co., Ltd., Shandong Haohua Tire Co., Ltd | 18.99
Nankang (Zhangjiagang Free Trade Zone) Rubber Industrial Co., Ltd | Nankang (Zhangjiagang Free Trade Zone) Rubber Industrial Co., Ltd | 18.99
Pirelli Tyre Co., Ltd | Pirelli Tyre Co., Ltd | 18.99
Qingdao Nama Industrial Co., Ltd | Shandong Guofeng Rubber Plastics Co., Ltd., Shandong Hengyu Science & Technology Co., Ltd., Shandong Longyue Rubber Co., Ltd., Shandong Haohua Tire Co., Ltd., Shouguang Firemax Tyre Co., Ltd., Shandong Zhongyi Rubber Co., Ltd., Shandong Yonking Rubber Co., Ltd., Shandong Hongsheng Rubber Technology Co., Ltd | 18.99
Qingdao Au-Shine Group Co., Limited | Shandong Gulun Rubber Co., Ltd | 18.99
Qingdao Crown Chemical Co., Ltd | Shandong Guofeng Rubber Plastics Co., Ltd., Shandong Haohua Tire Co., Ltd., Shandong Jinyu Industrial Co., Ltd., Doublestar-Dongfeng Tyre Co., Ltd., Shandong Yongsheng Rubber Group Co., Ltd | 18.99
Qingdao Free Trade Zone Full-World International Trading Co., Ltd | Shandong Zhentai Group Co., Ltd., Longkou Xinglong Tyre Co., Ltd., Hebei Tianrui Rubber Co., Ltd | 18.99
Qingdao Fullrun Tyre Tech Corp., Ltd | Qingdao Fullrun Tyre Tech Corp., Ltd | 18.99
Qingdao Honghua Tyre Factory | Qingdao Honghua Tyre Factory | 18.99
Qingdao Nexen Tire Corporation | Qingdao Nexen Tire Corporation | 18.99
Qingdao Odyking Tyre Co., Ltd | Doublestar-Dongfeng Tyre Co., Ltd., Shandong Fengyuan Tire Manufacturing Co., Ltd., Shouguang Firemax Tyre Co., Ltd | 18.99
Qingdao Qianzhen Tyre Co., Ltd | Qingdao Qianzhen Tyre Co., Ltd | 18.99
Qingdao Qihang Tyre Co., Ltd | Qingdao Qihang Tyre Co., Ltd | 18.99
Qingdao Qizhou Rubber Co., Ltd | Qingdao Qizhou Rubber Co., Ltd | 18.99
Qingdao Sentury Tire Co., Ltd | Qingdao Sentury Tire Co., Ltd | 18.99
Shandong Duratti Rubber Corporation Co., Ltd | Shandong Duratti Rubber Corporation Co., Ltd | 18.99
Shandong Fengyuan Tire Manufacturing Co., Ltd | Shandong Fengyuan Tire Manufacturing Co., Ltd | 18.99
Shandong Guofeng Rubber Plastics Co., Ltd | Shandong Guofeng Rubber Plastics Co., Ltd | 18.99
Shandong Haohua Tire Co., Ltd | Shandong Haohua Tire Co., Ltd | 18.99
Shandong Haolong Rubber Tire Co., Ltd | Shandong Haolong Rubber Tire Co., Ltd | 18.99
Shandong Hawk International Rubber Industry Co., Ltd | Shandong Hawk International Rubber Industry Co., Ltd | 18.99
Shandong Hengyu Science & Technology Co., Ltd | Shandong Hengyu Science & Technology Co., Ltd | 18.99
Shandong Linglong Tyre Co., Ltd | Shandong Linglong Tyre Co., Ltd | 18.99
Shandong Longyue Rubber Co., Ltd | Shandong Longyue Rubber Co., Ltd | 18.99
Shandong New Continent Tire Co., Ltd | Shandong New Continent Tire Co., Ltd | 18.99
Shandong Province Sanli Tire Manufactured Co., Ltd | Shandong Province Sanli Tire Manufactured Co., Ltd | 18.99
Shandong Shuangwang Rubber Co., Ltd | Shandong Shuangwang Rubber Co., Ltd | 18.99
Shandong Wanda Boto Tyre Co., Ltd | Shandong Wanda Boto Tyre Co., Ltd | 18.99
Shandong Yongtai Chemical Co., Ltd | Shandong Yongtai Chemical Co., Ltd | 18.99
Shandong Zhongyi Rubber Co., Ltd | Shandong Zhongyi Rubber Co., Ltd | 18.99
Shandong Huitong Tyre Co., Ltd | Shandong Huitong Tyre Co., Ltd., Laiwu Sunshine Tyre Co., Ltd | 18.99
Shengtai Group Co., Ltd | Shengtai Group Co., Ltd., Shandong Shengshitailai Rubber Technology Co., Ltd | 18.99
Shifeng Juxing Tire Co., Ltd | Shifeng Juxing Tire Co., Ltd | 18.99
Shouguang Firemax Tyre Co., Ltd | Shouguang Firemax Tyre Co., Ltd | 18.99
Southeast Mariner International Co., Ltd | Dongying Zhongyi Rubber Co., Ltd., Shandong Haohua Tire Co., Ltd | 18.99
Techking Tires Limited | Shandong Longyue Rubber Co., Ltd | 18.99
Toyo Tire (Zhangjiagang) Co., Ltd | Toyo Tire (Zhangjiagang) Co., Ltd | 18.99
Triangle Tyre Co., Ltd | Triangle Tyre Co., Ltd | 18.99
Tyrechamp Group Co., Limited | Shandong Haohua Tire Co., Ltd., Sichuan Tyre&Rubber Co., Ltd., Shandong Anchi Tyres Co., Ltd., Beijing Capital Tire Co. Ltd., Shandong Wanda Boto Tyre Co., Ltd., Shandong Wosen Rubber Co., Ltd., Shandong Zhentai Group Co., Ltd., Shandong Yonking Rubber Co., Ltd., Qingdao Doublestar Tire Industrial Co., Ltd., South China Tire & Rubber Co. Ltd., Anhui Heding Tire Technology Co., Ltd | 18.99
Weihai Ping'an Tyre Co., Ltd | Weihai Ping'an Tyre Co., Ltd | 18.99
Weihai Zhongwei Rubber Co., Ltd | Weihai Zhongwei Rubber Co., Ltd | 18.99
Wendeng Sanfeng Tyre Co., Ltd | Wendeng Sanfeng Tyre Co., Ltd | 18.99
Winrun Tyre Co., Ltd | Shaanxi Yanchang Petroleum Group Rubber Co. Ltd | 18.99
Zenith Holdings (HK) Limited | Shandong Linglong Tyre Co., Ltd | 18.99
Zhaoqing Junhong Co., Ltd | Zhaoqing Junhong Co., Ltd | 18.99

Amended Cash Deposits and Suspension of Liquidation

The collection of cash deposits and suspension of liquidation will be revised according to the rates calculated in this amended preliminary determination. Because the amended rates for the Sailun Group and separate rate companies results in reduced cash deposits, the rate for Sailun Group will be effective retroactively to January 27, 2015, the date of publication of the Preliminary Determination, and the rate for separate rate companies will be effective retroactively to October 29, 2014, which is 90 days before the date of publication of the Preliminary Determination. Parties will be notified of this determination, in accordance with sections 733(d) and (f) of the Act.

International Trade Commission Notification

In accordance with section 733(f) of the Act, we notified the International Trade Commission of our amended preliminary determination.

Notification to Interested Parties

The Department intends to disclose calculations performed in connection with this amended preliminary determination within five days of the date of publication of this notice in accordance with 19 CFR 351.224(b).

This amended preliminary determination is issued and published in accordance with sections 733(f) and 777(i)(1) of the Act and 19 CFR 351.224(e).

Dated: March 18, 2015.
Paul Piquado,
Assistant Secretary for Enforcement and Compliance.

[FR Doc. 2015-06955 Filed 3-25-15; 8:45 am]

BILLING CODE 3510-DS-P